DEPARTMENT OF JUSTICE

Office of Justice Programs

Agency Information Collection Activities: Proposed Collection; Comments Requested

ACTION: 30-day notice of information collection under review: extension of existing collection: annual parole survey, annual probation survey, and annual probation survey (short term).

The Department of Justice (DOJ), Office of Justice Programs (OJP), Bureau of Justice Statistics has submitted the following information collection request to the Office of Management and Budget (OMB) for review and approval in accordance with the Paperwork Reduction Act of 1995. The proposed information collection is published to obtain comments from the public and affected agencies. This proposed information collection was previously published in the Federal Register Volume 67, page 921 on January 8, 2002, allowing for a 60 day comment period.

The purpose of this notice is to allow for an additional 30 days for public comment until May 8, 2002. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202) 395-7285. Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of information Collection: Extension of a currently approved collection.

(2) Title of the Form/Collection: Annual Parole Survey, Annual Probation Survey, and Annual Probation Survey (Short Form).

(3) Agency form number, if any, and the applicable component of the Department of Justice sponsoring the collection: Forms: CJ-7; CJ-8; and CJ-8A. Corrections Statistics, Bureau of Justice Statistics, Office of Justice Programs, United States Department of Justice.

(4) Affected public who will be asked to respond, as well as a brief abstract: Primary: State Departments of Corrections or State probation and Parole authority. Others: The Federal Bureau of Prisons, city and county courts and probation officers for which a central reporting authority does not exist. For the CJ-7 form, 54 central reporters (two State jurisdictions in California and one each from the remaining States, the District of Columbia, the Federal Bureau of Prisons, and one local authority) responsible for keeping records on parolees will be asked to provide information for the following categories:

(a) As of January 1, 2002 and December 31, 2002, the number of adult parolees under their jurisdiction;

(b) The number of adults entering parole during 2002 through discretionary release from prison, mandatory release from prison, or reinstatement of parole;

(c) The number of adults released from parole during 2002 through successful completion, incarceration, transfer to another parole jurisdiction, or death;

(d) Whether adult parolees supervised out of State have been included in the total number of parolees on December 31, 2002, and the number of adult parolees supervised out of State;

(e) As of December 31, 2002, the number of male and female parolees under this jurisdiction;

(f) As of December 31, 2002, the number of white (not of Hispanic origin), black (not of Hispanic origin), Hispanic or Latino, American Indian or Alaska Native, Asian or Pacific Islander, or additional categories in their information systems;

(g) As of December 31, 2002, the number of adult parolees under their jurisdiction with a sentence of more than one year, or a year or less;

(h) As of December 31, 2002, the number of adult parolees under their jurisdiction who were active, inactive, absconders, or supervised out of state;

(i) As of December 31, 2002, the number of adult parolees under their jurisdiction who were supervised following a discretionary release, a mandatory release, a special conditional release, or other type of release from prison;

(j) Whether the parole authority operated an intensive supervision program, a program involving electronic monitoring, or had any parolees enrolled in a program that approximates a bootcamp, and the number of adult parolees in each of the programs as of December 31, 2002; and

(k) Of the adult parolees who died between January 1 and December 31, 2002, the number of deaths by gender and the number of deaths by race.

For the CJ-8 form, 333 reporters (one from each State, the District of Columbia, and the Federal Bureau of Prisons; and 295 from local authorities) responsible for keeping records on probations will be asked to provide information for the following categories:

(a) As of January 1, 2002 and December 31, 2002, the number of adult probationers under their jurisdiction:

(b) The number of adults entering probation during 2002 with and without a sentence to incarceration;

(c) The number of adults discharged from probation during 2002 through successful completion, incarceration, a detainer or warrant, transfer to another parole jurisdiction, and death;

(d) Whether adult parolees supervised out of State have been included in the total number of parolees on December 31, 2002, and the number of adult parolees supervised out of State;

(e) As of December 31, 2002, the number of male and female probationers under their jurisdiction;

(f) As of December 31, 2002, the number of white (not of Hispanic origin), black (not of Hispanic origin), Hispanic or Latino, American Indian or Alaska Native, Asian or Pacific Islander, or additional categories in their information system;

(g) As December 31, 2002, the number of adult probationers under their jurisdiction who were sentenced for a felony, misdemeanor, or other offense type;

(h) As of December 31, 2002, the number of adult probationers who had as their most serious offense a drug law violation, driving while intoxicated, other traffic offense, or domestic violence offense.

(i) Whether the probation authority supervised any probations held in local jails, prisons, or an INS holding facility, and the number of adult probationers held in each on December 31, 2002;

(j) As of December 31, 2002, the number of adult probationers under their jurisdiction who had entered probation with a direct sentence to probation, a split sentence to probation, a suspended sentence to incarceration, or a suspended imposition of sentence;

(k) As of December 31, 2002, the number of adult probationers under their jurisdiction who were active, inactive, absconders, or supervised out of State; and

(l) Whether the probation authority operated an intensive supervision program, a program involving electronic monitoring, or had any probationers enrolled in a program that approximates a bootcamp, and the number of adult probationers in each of the programs as of December 31, 2002.

(m) Whether the probation authority contracted out to a private agency for supervision, and the number of probationers supervised by a private agency that here included in the total population of December 31, 2002.

For the CJ-8A form, 150 reporters (from local authorities) responsible for keeping records on probationers will be asked to provide information for the following categories:

(a) As of January 1, 2002 and December 31, 2002, the number of adult probationers under their jurisdiction;

(b) The number of adults entering probation and discharged from probation during 2002;

(c) As of December 31, 2002, the number of male and female probationers under their jurisdiction; and

(d) As of December 31, 2002, the number of adult probationers under their jurisdiction who were sentenced for a felony, misdemeanor, or other offense type.

The Bureau of Justice Statistics uses this information in published reports and for the U.S. Congress, Executive Office of the President, practitioners, reasearchs, students, the media, and others interested in criminal justice statistics.

(5) An estimate of the total number of respondents and the amount of time estimated for an average respondent to respond. There are five hundred and thirty-seven respondents, each taking an average 1.17 hours to respond.

(6) An estimate of the total public burden (in hours) associated with the collection: Six hundred and fifty six annual burden hours are associated with this information collection.

If additional information is required contact: Mrs. Brenda E. Dyer, Deputy Clearance Officer, United States Department of Justice, Information Management and Security Staff, Justice Management Division, Suite 1600, Patrick Henry Building, 601 D Street NW., Washington, DC 20530.

Dated: March 29, 2002.
Brenda E. Dyer,
Department Deputy Clearance Officer, United States Department of Justice.

[FR Doc. 02-8257 Filed 4-5-02; 8:45 am]

BILLING CODE 4410-18-M